DEPARTMENT OF COMMERCE

International Trade Administration

University of Arkansas; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Comments: None received. Decision: Approved. We know of no instruments of equivalent scientific value to the foreign instruments described below, for such purposes as this is intended to be used, that was being manufactured in the United States at the time of its order.

Docket Number: 09-068. Applicant: University of Arkansas, Fayetteville, AK 72071. Instrument: Fluorescence Lifetime Imaging Microscope. Manufacturer: PicoQuant Photonics, Germany. Intended Use: See notice at 75 FR 3895, January 25, 2010.

Reasons: The instrument must be able to perform using lasers with both continuous wave (CW) and pulsed mode. The use of picoseconds pulsed lasers is necessary to measure fluorescence lifetime. The use of CW lasers, so that the fluorophores will be continuously excited, is necessary to measure fluorescence intensity. The driver that controls the laser head provides user-selectable pulsed repetition rates. This instrument is unique in that it is capable of pulsed interleaved excitation (PIE)—Fluorescence Resonance Energy Transfer (FRET) and of allowing repetition rates to be continuously varied down to the 200 kHz range. Furthermore, the instrument is compatible with atomic force microscopy by using objective scanning mode rather than sample scanning mode so that the sample-scanning Atomic Force Microscope (AFM) can be added to the microscope in a future upgrade.

We know of no Fluorescence Lifetime Imaging Microscopes being manufactured in the United States at the time of order of this instrument.

Dated: February 26, 2010.
Christopher Cassel,
Director, Subsidies Enforcement Office, Import Administration.

[FR Doc. 2010-4601 Filed 3-3-10; 8:45 am]

BILLING CODE 3510-DS-P